DEPARTMENT OF HOUSING AND URBAN DEVELOPMENT

[Docket No. FR-7092-N 14; OMB Control No.: 2528-0339]

30-Day Notice of Proposed Information Collection: Stepped and Tiered Rent Demonstration Evaluation, Phase 2

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: July 7, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Room 8210, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on January 7, 2025 at 90 FR 1183.

A. Overview of Information Collection

Title of Information Collection: Stepped and Tiered Rent Demonstration Evaluation, Phase 2.

OMB Approval Number: 2528-0339.

Type of Request: Revision of currently approved collection.

Form Number: N/A.

Description of the need for the information and proposed use: HUD has selected 10 Public Housing Agencies (PHAs) to participate in the second cohort of the Moving to Work (MTW) Expansion, Stepped and Tiered Rent Demonstration (STRD). These PHAs are implementing an alternative rent policy (a stepped rent or tiered rent) that intends to reduce PHA administrative burden and increase economic self-sufficiency of assisted households. Five PHAs are implementing a stepped rent and five PHAs are implementing a tiered rent. HUD's Office of Policy Development and Research (PD&R) is evaluating the impacts of those alternative rent policies, using a randomized controlled trial. The evaluation will rely on data from a variety of sources, including new information collection efforts proposed in this Notice. HUD contracted with MDRC to conduct the first phase of the evaluation, including random assignment, baseline data collection, and monitoring PHA implementation, and has now contracted with MDRC to conduct the second phase of the evaluation, including further administrative baseline data collection and follow-up data collection for the first three years of the six-year demonstration.

This Federal Register notice is seeking to extend and build upon previously approved data collection activities. For the second phase (Phase 2) of the evaluation, additional interviews with PHA staff will be conducted to understand their experiences with the alternative rent policies and costs associated with administering the alternative rent rules, and a 30-month follow-up survey will be fielded to study participants to assess the effects of the alternative rent policies on key outcomes that cannot be captured with administrative records, including material hardship. In addition to collecting these data, the STRD project will continue monitoring the implementation of the alternative rent rules and collecting PHA records for this purpose. Data collected is being used to estimate the effects of the alternative rent rules on employment, earnings, housing subsidy, and other key outcomes.

Burden Estimates for Data Collection Research Activities
Information collection | Number of respondents | Frequency of response | Responses per year | Burden hour per response | Annual burden hours | Hourly cost per response | Annual cost
Head of Households 30-month Survey | 8,000 | 1 | 8,000 | .25 | 2,000 | $10.72 | $21,440
PHA Program Director/Manager Group Implementation Interview Guide (Round 3) | 40 | 1 | 40 | 1.5 | 60 | 41.39 | 2,483.40
PHA Housing Specialist Group Implementation Interview Guide (Round 3) | 40 | 1 | 40 | 1.5 | 60 | 28.06 | 1,683.60
Cost Study Questionnaire | 40 | 1 | 40 | 1.5 | 60 | 34.73 | 2,083.80
Cost Study Checklist | 40 | 1 | 40 | .10 | 4 | 34.73 | 138.92
Total | 8,160 |  |  |  | 2,184 |  | 27,789.72

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department Clearance Officer, Office of Policy Development and Research, Chief Data Officer.

[FR Doc. 2025-10299 Filed 6-5-25; 8:45 am]

BILLING CODE 4210-67-P